INTERNATIONAL TRADE COMMISSION

[Investigation No. 337-TA-564]

In the Matter of Certain Voltage Regulators, Components Thereof and Products Containing Same; Notice of Commission Final Determination of Violation of Section 337; Termination of Investigation; Issuance of Limited Exclusion Order

AGENCY: U.S. International Trade Commission.

ACTION: Notice.

SUMMARY: Notice is hereby given that the U.S. International Trade Commission has determined that there is a violation of 19 U.S.C. 1337 by Advanced Analogic Technologies, Inc. (“AATI”) of Sunnyvale, California in the above-captioned investigation, and has issued a limited exclusion order directed against products of respondent AATI. The investigation is terminated.

FOR FURTHER INFORMATION CONTACT: Eric Frahm, Office of the General Counsel, U.S. International Trade Commission, 500 E Street, SW., Washington, DC 20436, telephone (202) 205-3107. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on March 22, 2006, based on a complaint filed by Linear Technology Corporation (“Linear”) of Milpitas, California. The complaint, as supplemented, alleged violations of section 337 of the Tariff Act of 1930 (19 U.S.C. 1337) in the importation into the United States, the sale for importation, and the sale within the United States after importation of certain voltage regulators, components thereof and products containing the same, by reason of infringement of various claims of United States Patent No. 6,411,531 (“the '531 patent”) and United States Patent No. 6,580,258 (“the '258 patent”). The complaint named AATI as the sole respondent.

On May 22, 2007, the ALJ issued his final ID finding no violation of section 337. Specifically, he found that none of AATI's accused products directly infringe the asserted claims of the '258 patent, and that one accused product directly infringed claims 4 and 26 of the '531 patent. He found that no indirect infringement had occurred in connection with any of the asserted claims of either patent. As to validity, the ALJ determined that claim 35 of the '258 patent and claims 4, 9, and 26 of the '531 patent are invalid due to anticipation, rejecting other arguments of invalidity, unenforceability, and estoppel. The ALJ also determined that a domestic industry exists with regard to the '258 patent; but that there was no domestic industry with regard to the '531 patent, because of a failure to meet the technical prong of the domestic industry requirement. On May 30, 2007, the ALJ issued his Recommended Determination (“RD”) on remedy and bonding. Linear, AATI, and the Commission investigative attorney (“IA”) filed petitions for review of the ALJ's ID.

On July 6, 2007, the Commission determined to extend the deadline for determining whether to review the subject final ID by fifteen (15) days, i.e., to July 24, 2007. On July 24, 2007, the Commission determined to review the final ID in part. Specifically, the Commission made the following determinations. With respect to the '258 patent, the Commission determined (1) to review the ID concerning the issues of claim construction, infringement, and validity; and (2) not to review the remainder of the ID as to the '258 patent. With respect to the '531 patent, the Commission determined (1) to review the ID concerning the issue of whether asserted claim 9 of the '531 patent is invalid for anticipation by the Kase reference, and upon review to take no position as to that issue, and (2) not to review the remainder of the ID as to the '531 patent.

The Commission requested written submissions from the parties relating to the issues on review, and submissions on the appropriate remedy, whether the statutory public interest factors preclude issuance of that remedy, and the amount of bond to be imposed during the Presidential review period.

Having examined the record of this investigation, including the ALJ's final ID, the Commission has determined to reverse-in-part the subject ID such that: (i) The ALJ's construction of the terms in claims 2, 3, 34, and 35 of the '258 patent are modified; (ii) the ALJ's conclusions on infringement of the '258 patent are reversed-in-part by reversing the ALJ's finding of no literal infringement with respect to the sleep mode claims (asserted claims 2, 3, and 34) only as to representative product AAT1143, and affirming the ALJ's finding of no infringement with respect to the reverse current claim (asserted claim 35); and (iii) the ALJ's findings of validity of claims 2, 3, and 34 and of invalidity of claim 35 of the '258 patent are affirmed. The Commission determined not to reach the issue of indirect infringement. The Commission has determined that the appropriate form of relief is a limited exclusion order prohibiting the unlicensed entry of voltage regulators that infringe one or more of claims 2, 3, and 34 of the '258 patent and that are manufactured by or on behalf of AATI, its affiliated companies, parents, subsidiaries, licensees, contractors, or other related business entities, or successors or assigns.

The Commission further determined that the public interest factors enumerated in section 337(d)(1) (19 U.S.C. 1337(d)(1)) do not preclude issuance of the limited exclusion order. Finally, the Commission determined that the amount of bond to permit temporary importation during the Presidential review period (19 U.S.C. 1337(j)) shall be in the amount of one hundred (100) percent of the entered value of the articles that are subject to the order. The Commission's order was delivered to the President and the United States Trade Representative on the day of its issuance.

The authority for the Commission's determination is contained in section 337 of the Tariff Act of 1930, as amended (19 U.S.C. 1337), and in section 210.45 of the Commission's Rules of Practice and Procedure (19 CFR 210.45).

By order of the Commission.
Issued: September 24, 2007.
Marilyn R. Abbott,
Secretary to the Commission.

[FR Doc. E7-19123 Filed 9-27-07; 8:45 am]

BILLING CODE 7020-02-P